ENVIRONMENTAL PROTECTION AGENCY

40 CFR Part 52

[EPA-R01-OAR-2015-0306; A-1-FRL-9949-32-Region 1]

Air Plan Approval; RI; Correction, Administrative and Miscellaneous Revisions

AGENCY: Environmental Protection Agency.

ACTION: Direct final rule.

SUMMARY: The Environmental Protection Agency (EPA) is approving a State Implementation Plan (SIP) revision submitted by the State of Rhode Island. This SIP revision includes fifteen revised Rhode Island Air Pollution Control Regulations. These regulations have been previously approved into the Rhode Island SIP and the revisions to these regulations currently being approved are mainly administrative in nature, but also include technical corrections and a few substantive changes to several of the rules. In addition, EPA is promulgating a correction to the Rhode Island SIP to remove Rhode Island's odor regulation because it was previously erroneously approved into the SIP. The intended effect of this action is to approve Rhode Island's fifteen revised regulations into the Rhode Island SIP and to correct the Rhode Island SIP by removing Rhode Island's odor regulation. This action is being taken in accordance with the Clean Air Act.

DATES: This direct final rule will be effective September 20, 2016, unless EPA receives adverse comments by August 22, 2016. If adverse comments are received, EPA will publish a timely withdrawal of the direct final rule in the Federal Register informing the public that the rule will not take effect.

ADDRESSES: Submit your comments, identified by Docket ID No. EPA-R01-OAR-2015-0306 at http://www.regulations.gov, or via email to mcdonnell.ida@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Susan Lancey, Air Permits, Toxics, and Indoor Programs Unit, Office of Ecosystem Protection, 5 Post Office Square—Suite 100, (Mail code OEP05-2), Boston, MA 02109-3912, telephone 617-918-1656, fax 617-918-0656, email lancey.susan@epa.gov.

SUPPLEMENTARY INFORMATION: Throughout this document whenever “we,” “us,” or “our” is used, we mean EPA.

Organization of this document. The following outline is provided to aid in locating information in this preamble.

I. Background and Purpose

II. Correction to Rhode Island's SIP

III. Rhode Island's SIP Revision

IV. EPA's Evaluation of Rhode Island's SIP Revision

V. Final Action

VI. Incorporation by Reference

VII. Statutory and Executive Order Reviews

I. Background and Purpose

On September 22, 2008, the Rhode Island Department of Environmental Management (RI DEM) submitted a SIP revision to EPA. This SIP revision includes fifteen revised Rhode Island Air Pollution Control Regulations, with the revisions mainly being administrative in nature, but several rules also included technical corrections and four rules included additional changes. In addition, in a letter dated May 24, 2016, Rhode Island requested that EPA remove Rhode Island's Air Pollution Control Regulation No. 17 “Odors” from the existing SIP, a revision to which was initially included in Rhode Island's September 22, 2008 SIP submittal. Also, on March 25, 2015, Rhode Island submitted a separate SIP revision with revised versions of three regulations that were part of the September 22, 2008 SIP submittal. These three revisions consisted of minor technical corrections. In a letter dated May 25, 2016, Rhode Island submitted another letter, withdrawing from its SIP revision several provisions of the fifteen regulations included in the original September 22, 2008 SIP submittal.¹

¹ In a letter dated May 25, 2016, Rhode Island submitted revised versions of each of these regulations to withdraw certain provisions from the September 22, 2008 SIP submittal. Rhode Island withdrew “director discretion” provisions from Rhode Island APC Regulation No. 3 and No. 12, and air toxics provisions from Rhode Island APC Regulation No. 7. Rhode Island also withdrew the “Application” section from the General Provisions of all fifteen regulations. In addition, the September 22, 2008 SIP submittal did not include “halogenated organic compound” applicability provisions in APC Regulation No. 15, No. 19, No. 21, No. 26, No. 30, No. 32, and No. 35.

Rhode Island's new “Air Pollution Control General Definitions Regulation” was also included in the September 22, 2008 SIP revision. However, an updated version of that regulation (effective in the state of Rhode Island on September 29, 2010) was subsequently submitted by RI DEM on March 25, 2011, and was approved by EPA on March 1, 2012. See 77 FR 14691.

In addition, by letters dated June 27, 2014, March 28, 2016, and May 24, 2016, Rhode Island withdrew seventeen of the regulations originally included in the September 22, 2008 SIP submittal. Consequently, we are taking action only on the following revised regulations from Rhode Island's September 22, 2008 submittal: Rhode Island's Air Pollution Control (APC) Regulation No. 1 “Visible Emissions,” No. 3 “Particulate Emissions from Industrial Processes,” No. 4 “Open Fires,” No. 6 “Continuous Emissions Monitors,” No. 7 “Emissions of Air Contaminants Detrimental to Person or Property,” No. 12 “Incinerators,” No. 14 “Record Keeping and Reporting,” No. 15 “Control of Organic Solvent Emissions,” No. 19 “Control of Volatile Organic Compounds from Surface Coating Operations,” No. 21 “Control of Volatile Organic Compounds from Printing Operations,” No. 26 “Control of Organic Solvent Emissions from Manufacturers of Synthesized Pharmaceutical Products,” No. 27 “Control of Nitrogen Oxide Emissions,” No. 30 “Control of Volatile Organic Compounds from Automobile Refinishing Operations,” No. 32 “Control of Volatile Organic Compounds from Marine Vessel Loading Operations,” and No. 35 “Control of Volatile Organic Compounds and Volatile Hazardous Air Pollutants from Wood Product Manufacturing Operations.” All of these regulations were effective in the State of Rhode Island on July 19, 2007.

See section II of this document for details about the correction to Rhode Island's SIP to remove the odor regulation. See section III for details about the rule changes we are taking action on, which were contained in Rhode Island's September 22, 2008 SIP revision. See section IV for a summary of EPA's evaluation of the State's amended September 22, 2008 SIP submittal. Please note that if EPA receives adverse comment(s) on a particular amendment, paragraph, or section of Rhode Island's SIP revision and if that amendment, paragraph, or section is severable from the remainder of the regulation in question, EPA may adopt as final those provisions of the regulation that are not the subject of the adverse comment(s).

II. Correction to Rhode Island's SIP

A revision to APC Regulation No. 17 “Odors” was initially included in Rhode Island's September 22, 2008 SIP submittal. However, in a letter dated May 24, 2016, Rhode Island withdrew that revision from its SIP submittal and also requested that EPA remove Rhode Island's already existing Air Pollution Control Regulation No. 17 “Odors” from the SIP. EPA has determined that Rhode Island's Air Pollution Control Regulation No. 17 “Odors,” which was originally approved into the SIP in 1981, does not have reasonable connection to the National Ambient Air Quality Standards (NAAQS) and related air quality goals of the Clean Air Act and thus is not properly part of the SIP. Consequently, pursuant to CAA section 110(k)(6), EPA is correcting the erroneous approval of Rhode Island's odor regulation into the SIP. Section 110(k)(6) of the CAA provides that “[w]henever the Administrator determines that the Administrator's action approving, disapproving, or promulgating any plan or plan revision (or part thereof), area designation, redesignation, classification or reclassification was in error, the Administrator may in the same manner as the approval, disapproval, or promulgation revise any such action as appropriate without requiring any further submission from the State. Such determination and the basis thereof shall be provided to the State and the public.” It should be noted that Section 110(k)(6) has been used by EPA to delete improperly approved odor provisions from the Wyoming SIP and the New York SIP. See 61 FR 47058 and 63 FR 65557.

III. Rhode Island's SIP Revision

For ten of the fifteen regulations included in Rhode Island's amended September 22, 2008 SIP submittal, Rhode Island removed common definitions from each of those individual regulations and recodified them in Rhode Island's Air Pollution Control General Definitions Regulation. As noted above, the “Air Pollution Control General Definitions Regulation” with those added definitions was approved into the SIP on March 1, 2012. In addition, for all of the fifteen regulations included in Rhode Island's amended September 22, 2008 SIP submittal, Rhode Island added General Provisions to each of the regulations. These General Provisions state the purpose of the rule, cite the authority pursuant to which the regulations were promulgated, and provide the effective date of the regulation.

On March 25, 2015, Rhode Island amended the September 22, 2008 SIP submittal by submitting revised versions of Air Pollution Control Regulations No. 15, No. 26, and No. 32, including minor technical corrections. Rhode Island's APC Regulation No. 15 was revised to correct the numbering of subsections 15.4.10(g) and (h) and was revised to correct the references to these sections in subsections 15.2.4(b) and 15.2.5(b). Rhode Island's APC Regulation No. 26 was revised in subsection 26.6.2 to correct a cross reference to another subsection. Rhode Island's APC Regulation No. 32 was revised to correct a typographical error in subsection 32.1.1 and to correct the symbol for degrees in subsection 32.4.3(f).

In addition to the changes noted above, in the amended September 22, 2008 SIP submittal, the following eight regulations added a Table of Contents in each regulation: Rhode Island's APC Regulation No. 15, No. 19, No. 21, No. 26, No. 27, No. 30, No. 32, and No. 35. Furthermore, APC Regulation No. 4, No. 7, No. 12, and No. 14 included additional changes. The following discussion provides a summary of the changes to these four regulations.

Rhode Island's APC Regulation No. 4 “Open Fires” was approved into the SIP in 1981. See 46 FR 25446. The currently approved standard prohibits burning of any material in an open fire at a solid waste management facility or in connection with any salvage, industrial, commercial or institutional operation. Rhode Island added a definition for hazardous waste disposal facility to mean real and personal property acquired, constructed or operated for the purpose of the disposal of hazardous waste, and added an explicit prohibition for open burning at hazardous wastes disposal facilities. In addition, Rhode Island added a provision allowing the RI DEM Air Director to approve open burning of solid or liquid fuels or structures for the purpose of instruction and training of municipal, volunteer and industrial firefighters in the method of fighting fires when conducted under the direct control and supervision of qualified instructors. The rule also added a provision allowing the Director to approve the combustion of material if no alternative means of disposal is available, and so long as the burning is conducted during periods of good ventilation, without causing a nuisance, and using smoke minimizing starters if smoke starters are used. Alternative disposal methods may include chipping, cutting for forest products, landfilling, piling for protective cover for wildlife and others. EPA concluded that sufficient, concrete bounds and conditions were placed on the Director's ability to approve alternative means of combusting material, such that the Director's discretion in this particular instance is approvable under the CAA.

Rhode Island's Air Pollution Control Regulation No. 7 “Emissions of Air Contaminants Detrimental to Person or Property” was approved into the SIP in 1981. See 46 FR 25446. The standard prohibits emissions of any contaminant that may be injurious to human, plant or animal life, or cause damage to property or which unreasonably interferes with the enjoyment of life and property. Rhode Island's APC Regulation No. 7 was revised to include criteria for determining compliance with the standard for new sources or modifications. In the issuance of any approval under Rhode Island's APC Regulation No. 9 “Air Pollution Control Permits” the criteria for determining compliance with regard to the APC Regulation No. 7 standards will be based on compliance with the primary and secondary NAAQS.

Rhode Island's Air Pollution Control Regulation No. 12 “Incinerators” was approved into the SIP in 1982. See 47 FR 17816. Rhode Island's APC Regulation No. 12 was amended to exclude new hospital, medical, and infectious waste incinerators subject to sections 39.3-39.10 of Rhode Island's APC Regulation No. 39. Rhode Island's APC Regulation No. 39 was approved by EPA as part of a State Plan required by sections 111(d) and 129 of the Clean Air Act. See 66 FR 21092.

Rhode Island's APC Regulation No. 14, Recordkeeping and Reporting, was approved into the SIP in 1999. See 64 FR 67495. Rhode Island's APC Regulation No. 14 was revised to require emission statements to be submitted by April 15 of each year instead of “within 45 days of the end of the calendar year.”

IV. EPA's Evaluation of Rhode Island's SIP Revision

We have reviewed the regulations included in Rhode Island's amended September 22, 2008 SIP submittal and have found that all of the regulations currently pending before EPA from that submittal had previously been approved into the Rhode Island SIP (without the revisions included in the amended September 22, 2008 submission).² The changes to Rhode Island's APC Regulation No. 4 “Open Fires” to allow open burning for the instruction and training of firefighters or where there are no alternatives to open burning available, are practical and properly limited exceptions to the general prohibition against open fires. Rhode Island's APC Regulation No. 7 “Emissions of Air Contaminants Detrimental to Person or Property” was strengthened by adding criteria for determining compliance with the standard for new and modified sources. Rhode Island's APC Regulation No. 12 “Incinerators” now excludes incinerators more appropriately regulated by Rhode Island's APC Regulation No. 39 as part of an EPA approved State Plan under sections 111(d) and 129 of the Clean Air Act. Lastly, the change to the date for submissions in Rhode Island's APC Regulation No. 14 “Record Keeping and Reporting” is minor in nature and has no bearing on air quality. As described above, the revisions to the majority of those regulations submitted as part of the amended September 22, 2008 submittal are primarily administrative in nature and also include certain minor technical corrections, as well as a few substantive changes we find acceptable to several of the rules. Therefore, EPA is approving the revised regulations into the Rhode Island SIP.

² It should be noted that the only newly adopted regulation included in Rhode Island's September 22, 2008 SIP submittal was the “General Definitions” regulation. An updated version of that regulation was approved by EPA on March 13, 2012. See 77 FR 14691. Therefore, the definitions regulation was one of the rules that Rhode Island withdrew in its March 28, 2016 letter.

V. Final Action

EPA is removing Rhode Island's APC Regulation No. 17 “Odors” from the approved Rhode Island SIP pursuant to Section 110(k)(6) of the Act. In addition, EPA is approving, and incorporating into the Rhode Island SIP, the following revised Rhode Island Air Pollution Control Regulations, effective in the state of Rhode Island on July 19, 2007:

No. 1 “Visible Emissions” (except section 1.5.3 of the General Provisions which was formally withdrawn from consideration as part of the SIP revision)

No. 3 “Particulate Emissions from Industrial Processes” (except section 3.4.3 of the General Provisions and the “director discretion” provisions in section 3.3(a), which were formally withdrawn from consideration as part of the SIP revision)

No. 4 “Open Fires” (except section 4.5.3 of the General Provisions which was formally withdrawn from consideration as part of the SIP revision)

No. 6 “Continuous Emissions Monitors” (except section 6.4.3 of the General Provisions which was formally withdrawn from consideration as part of the SIP revision)

No. 7 “Emissions of Air Contaminants Detrimental to Person or Property” (except section 7.5.3 of the General Provisions and the air toxics provisions in sections 7.4.1(b), (c), and (d), which were formally withdrawn from consideration as part of the SIP revision)

No. 12 “Incinerators” (except section 12.8.3 of the General Provisions and the “director discretion” provisions in sections 12.5(a) and (c), which were formally withdrawn from consideration as part of the SIP revision)

No. 14 “Record Keeping and Reporting” (except section 14.4.3 of the General Provisions which was formally withdrawn from consideration as part of the SIP revision)

No. 15 “Control of Organic Solvent Emissions” (except section 15.5.3 of the General Provisions which was formally withdrawn from consideration as part of the SIP revision, and section 15.2.2 which was not submitted as part of the SIP revision)

No. 19 “Control of Volatile Organic Compounds from Surface Coating Operations” (except section 19.9.3 of the General Provisions which was formally withdrawn from consideration as part of the SIP revision, and section 19.2.2 which was not submitted as part of the SIP revision)

No. 21 “Control of Volatile Organic Compounds from Printing Operations” (except section 21.8.3 of the General Provisions which was formally withdrawn from consideration as part of the SIP revision, and section 21.2.3 which was not submitted as part of the SIP revision)

No. 26 “Control of Organic Solvent Emissions from Manufacturers of Synthesized Pharmaceutical Products” (except section 26.8.3 of the General Provisions which was formally withdrawn from consideration as part of the SIP revision, and section 26.2.3 which was not submitted as part of the SIP revision)

No. 27 “Control of Nitrogen Oxide Emissions” (except section 27.7.3 of the General Provisions which was formally withdrawn from consideration as part of the SIP revision)

No. 30 “Control of Volatile Organic Compounds from Automobile Refinishing Operations” (except section 30.9.3 of the General Provisions which was formally withdrawn from consideration as part of the SIP revision, and section 30.2.2 which was not submitted as part of the SIP revision)

No. 32 “Control of Volatile Organic Compounds from Marine Vessel Loading Operations” (except section 32.7.3 of the General Provisions which was formally withdrawn from consideration as part of the SIP revision, and section 32.2.2 which was not submitted as part of the SIP revision)

No. 35 “Control of Volatile Organic Compounds and Volatile Hazardous Air Pollutants from Wood Product Manufacturing Operations” (except section 35.9.3 of the General Provisions which was formally withdrawn from consideration as part of the SIP revision, and section 35.2.3 which was not submitted as part of the SIP revision)

The EPA is publishing this action without prior proposal because the Agency views this as a noncontroversial amendment and anticipates no adverse comments. However, in the proposed rules section of this Federal Register publication, EPA is publishing a separate document that will serve as the proposal to approve the SIP revision should relevant adverse comments be filed. This rule will be effective September 20, 2016 without further notice unless the Agency receives relevant adverse comments by August 22, 2016.

If the EPA receives such comments, then EPA will publish a notice withdrawing the final rule and informing the public that the rule will not take effect. All public comments received will then be addressed in a subsequent final rule based on the proposed rule. The EPA will not institute a second comment period on the proposed rule. All parties interested in commenting on the proposed rule should do so at this time. If no such comments are received, the public is advised that this rule will be effective on September 20, 2016 and no further action will be taken on the proposed rule. Please note that if EPA receives adverse comment on an amendment, paragraph, or section of this rule and if that provision may be severed from the remainder of the rule, EPA may adopt as final those provisions of the rule that are not the subject of an adverse comment.

VI. Incorporation by Reference

In this rule, the EPA is finalizing regulatory text that includes incorporation by reference. In accordance with requirements of 1 CFR 51.5, the EPA is finalizing the incorporation by reference of Rhode Island's Air Pollution Control Regulations No. 1 “Visible Emissions” (except section 1.5.3 of the General Provisions which was formally withdrawn from consideration as part of the SIP revision), No. 3 “Particulate Emissions from Industrial Processes” (except section 3.4.3 of the General Provisions and the “director discretion” provisions in section 3.3(a), which were formally withdrawn from consideration as part of the SIP revision), No. 4 “Open Fires” (except section 4.5.3 of the General Provisions which was formally withdrawn from consideration as part of the SIP revision), No. 6 “Continuous Emissions Monitors” (except section 6.4.3 of the General Provisions which was formally withdrawn from consideration as part of the SIP revision), No. 7 “Emissions of Air Contaminants Detrimental to Person or Property” (except section 7.5.3 of the General Provisions and the air toxics provisions in sections 7.4.1(b), (c), and (d), which were formally withdrawn from consideration as part of the SIP revision), No. 12 “Incinerators” (except section 12.8.3 of the General Provisions and the “director discretion” provisions in sections 12.5(a) and (c), which were formally withdrawn from consideration as part of the SIP revision), No. 14 “Record Keeping and Reporting” (except section 14.4.3 of the General Provisions which was formally withdrawn from consideration as part of the SIP revision), No. 15 “Control of Organic Solvent Emissions” (except section 15.5.3 of the General Provisions which was formally withdrawn from consideration as part of the SIP revision, and section 15.2.2 which was not submitted as part of the SIP revision), No. 19 “Control of Volatile Organic Compounds from Surface Coating Operations” (except section 19.9.3 of the General Provisions which was formally withdrawn from consideration as part of the SIP revision, and section 19.2.2 which was not submitted as part of the SIP revision), No. 21 “Control of Volatile Organic Compounds from Printing Operations” (except section 21.8.3 of the General Provisions which was formally withdrawn from consideration as part of the SIP revision, and section 21.2.3 which was not submitted as part of the SIP revision), No. 26 “Control of Organic Solvent Emissions from Manufacturers of Synthesized Pharmaceutical Products” (except section 26.8.3 of the General Provisions which was formally withdrawn from consideration as part of the SIP revision, and section 26.2.3 which was not submitted as part of the SIP revision), No. 27 “Control of Nitrogen Oxide Emissions” (except section 27.7.3 of the General Provisions which was formally withdrawn from consideration as part of the SIP revision), No. 30 “Control of Volatile Organic Compounds from Automobile Refinishing Operations” (except section 30.9.3 of the General Provisions which was formally withdrawn from consideration as part of the SIP revision, and section 30.2.2 which was not submitted as part of the SIP revision), No. 32 “Control of Volatile Organic Compounds from Marine Vessel Loading Operations” (except section 32.7.3 of the General Provisions which was formally withdrawn from consideration as part of the SIP revision, and section 32.2.2 which was not submitted as part of the SIP revision), and No. 35 “Control of Volatile Organic Compounds and Volatile Hazardous Air Pollutants from Wood Product Manufacturing Operations” (except section 35.9.3 of the General Provisions which was formally withdrawn from consideration as part of the SIP revision, and section 35.2.3 which was not submitted as part of the SIP revision), described in the amendments to 40 CFR part 52 set forth below. The EPA has made, and will continue to make, these documents generally available electronically through http://www.regulations.gov.

VII. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 20, 2016. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 5, 2016.
H. Curtis Spalding,
Regional Administrator, EPA New England.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart OO—Rhode Island

2. In § 52.2070, paragraph (c), the table is amended by removing the entry for state citation Air Pollution Control Regulation 17; and by revising entries to state citations for Air Pollution Control Regulations 1, 3, 4, 6, 7, 12, 14, 15, 19, 21, 26, 27, 30, 32, and 35 to read as follows:

§ 52.2070 Identification of plan.

* * * * *

(c) * * *

EPA-Approved Rhode Island Regulations
State citation | Title/subject | State effective date | EPA approval date | Explanations
* * * * * * *
Air Pollution Control Regulation 1 | Visible Emissions | 7/19/2007 | 7/22/2016 [Insert Federal Register citation] | All of Air Pollution Control Regulation 1 is approved with the exception of section 1.5.3 of the General Provisions which was formally withdrawn from consideration as part of the SIP revision.
* * * * * * *
Air Pollution Control Regulation 3 | Particulate Emissions from Industrial Processes | 7/19/2007 | 7/22/2016 [Insert Federal Register citation] | All of Air Pollution Control Regulation 3 is approved with the exception of section 3.4.3 of the General Provisions and the “director discretion” provisions in section 3.3(a), which were formally withdrawn from consideration as part of the SIP revision.
Air Pollution Control Regulation 4 | Open Fires | 7/19/2007 | 7/22/2016 [Insert Federal Register citation] | All of Air Pollution Control Regulation 4 is approved with the exception of section 4.5.3 of the General Provisions which was formally withdrawn from consideration as part of the SIP revision.
* * * * * * *
Air Pollution Control Regulation 6 | Continuous Emission Monitors | 7/19/2007 | 7/22/2016 [Insert Federal Register citation] | All of Air Pollution Control Regulation 6 is approved with the exception of section 6.4.3 of the General Provisions which was formally withdrawn from consideration as part of the SIP revision.
Air Pollution Control Regulation 7 | Emission of Air Contaminants Detrimental to Persons or Property | 7/19/2007 | 7/22/2016 [Insert Federal Register citation] | All of Air Pollution Control Regulation 7 is approved with the exception of section 7.5.3 of the General Provisions and the air toxics provisions in sections 7.4.1(b), (c), and (d), which were formally withdrawn from consideration as part of the SIP revision.
* * * * * * *
Air Pollution Control Regulation 12 | Incinerators | 7/19/2007 | 7/22/2016 [Insert Federal Register citation] | All of Air Pollution Control Regulation 12 is approved with the exception of section 12.8.3 of the General Provisions and the “director discretion” provisions in sections 12.5(a) and (c), which were formally withdrawn from consideration as part of the SIP revision.
* * * * * * *
Air Pollution Control Regulation 14 | Recordkeeping and Reporting | 7/19/2007 | 7/22/2016 [Insert Federal Register citation] | All of Air Pollution Control Regulation 14 is approved with the exception of section 14.4.3 of the General Provisions which was formally withdrawn from consideration as part of the SIP revision.
Air Pollution Control Regulation 15 | Control of Organic Solvent Emissions | 7/19/2007 | 7/22/2016 [Insert Federal Register citation] | All of Air Pollution Control Regulation 15 is approved with the exception of section 15.5.3 of the General Provisions which was formally withdrawn from consideration as part of the SIP revision, and section 15.2.2 which was not submitted as part of the SIP revision.
* * * * * * *
Air Pollution Control Regulation 19 | Control of Volatile Organic Compounds from Surface Coating Operations | 7/19/2007 | 7/22/2016 [Insert Federal Register citation] | All of Air Pollution Control Regulation 19 is approved with the exception of section 19.9.3 of the General Provisions which was formally withdrawn from consideration as part of the SIP revision, and section 19.2.2 which was not submitted as part of the SIP revision.
Air Pollution Control Regulation 21 | Control of Volatile Organic Compounds from Printing Operations | 7/19/2007 | 7/22/2016 [Insert Federal Register citation] | All of Air Pollution Control Regulation 21 is approved with the exception of section 21.8.3 of the General Provisions which was formally withdrawn from consideration as part of the SIP revision, and section 21.2.3 which was not submitted as part of the SIP revision.
* * * * * * *
Air Pollution Control Regulation 26 | Control of Organic Solvent Emissions from Manufacturers of Synthesized Pharmaceutical Products | 7/19/2007 | 7/22/2016 [Insert Federal Register citation] | All of Air Pollution Control Regulation 26 is approved with the exception of section 26.8.3 of the General Provisions which was formally withdrawn from consideration as part of the SIP revision, and section 26.2.3 which was not submitted as part of the SIP revision.
Air Pollution Control Regulation 27 | Control of Nitrogen Oxide Emissions | 7/19/2007 | 7/22/2016 [Insert Federal Register citation] | All of Air Pollution Control Regulation 27 is approved with the exception of section 27.7.3 of the General Provisions which was formally withdrawn from consideration as part of the SIP revision.
* * * * * * *
Air Pollution Control Regulation 30 | Control of Volatile Organic Compounds from Automobile Refinishing Operations | 7/19/2007 |  | All of Air Pollution Control Regulation 30 is approved with the exception of section 30.9.3 of the General Provisions which was formally withdrawn from consideration as part of the SIP revision, and section 30.2.2 which was not submitted as part of the SIP revision.
* * * * * * *
Air Pollution Control Regulation 32 | Control of Volatile Organic Compounds from Marine Vessel Loading Operations | 7/19/2007 |  | All of Air Pollution Control Regulation 32 is approved with the exception of section 32.7.3 of the General Provisions which was formally withdrawn from consideration as part of the SIP revision, and section 32.2.2 which was not submitted as part of the SIP revision.
* * * * * * *
Air Pollution Control Regulation 35 | Control of Volatile Organic Compounds and Volatile Hazardous Air Pollutants from Wood Product Manufacturing Operations | 7/19/2007 | 7/22/2016 [Insert Federal Register citation] | All of Air Pollution Control Regulation 35 is approved with the exception of section 35.9.3 of the General Provisions which was formally withdrawn from consideration as part of the SIP revision, and section 35.2.3 which was not submitted as part of the SIP revision.
* * * * * * *

[FR Doc. 2016-17184 Filed 7-21-16; 8:45 am]

BILLING CODE 6560-50-P